DEPARTMENT OF HEALTH AND HUMAN SERVICES

Health Resources and Services Administration

Notice of Availability of Final Policy Guidance

AGENCY: Health Resources and Services Administration, HHS.

ACTION: Final Agency Guidance and Response to Public Comments.

SUMMARY: The Health Resources and Services Administration (HRSA) is publishing a final Agency Guidance (“Policy Information Notice” (PIN) 2007-16) to describe and clarify the circumstances under which Federal Tort Claims Act (FTCA)—deemed Health Center Program grantees are covered under the FTCA as they respond to emergencies. The PIN, “Federal Tort Claims Act Coverage for Health Center Program Grantees Responding to Emergencies,” and the Agency's “Response to Public Comments” are available on the Internet at http://bphc.hrsa.gov/policy/pin0716.

DATES: The effective date of this final Agency guidance is August 22, 2007.

Background: HRSA administers the Health Center Program, which supports more than 3,800 health care delivery sites, including community health centers, migrant health centers, health care for the homeless centers, and public housing primary care centers. Health centers serve clients that are primarily low-income and minorities, and deliver comprehensive, culturally competent, quality primary health care services to patients regardless of their ability to pay. Charges for health care services are set according to income.

On March 15, 2007, HRSA made the draft PIN, “Federal Tort Claims Act Coverage for Health Center Program Grantees Responding to Emergencies,” available for public comment on HRSA's Web site. Comments were due to HRSA by May 31, 2007.

Comments were received from 14 organizations and/or individuals. After review and careful consideration of all comments received, HRSA has amended the PIN to incorporate certain recommendations from the public. The final PIN reflects these changes.

In addition to making the final PIN available on HRSA's Web site, HRSA is also posting the Agency's “Response to Public Comments.” The purpose of that document is to summarize the major comments received and describe the Agency's response, including any corresponding changes made to the PIN. Where comments did not result in a revision to the PIN, explanations are provided.

FOR FURTHER INFORMATION CONTACT: For questions regarding this notice, please contact the Office of Policy and Program Development, Bureau of Primary Health Care, HRSA, at 301-594-4300.

Dated: September 14, 2007.
Elizabeth M. Duke,
Administrator.

[FR Doc. E7-18562 Filed 9-19-07; 8:45 am]

BILLING CODE 4165-15-P